DEPARTMENT OF HEALTH AND HUMAN SERVICES

Centers for Disease Control and Prevention

[60Day-07-0109]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Assistant Reports Clearance Officer, 1600 Clifton Road, MS-D74, Atlanta, GA 30333 or send an e-mail to omb@cdc.gov.

Comments are invited on: (a) Whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Respiratory Protective Devices—42 CFR part 84—Regulation—(0920-0109)—Extension—National Institute for Occupational Safety and Health (NIOSH), of the Centers for Disease Control and Prevention (CDC).

Background and Brief Description

This data collection was formerly named Respiratory Protective Devices 30 CFR part 11 but in 1995, the respirator standard was moved to 42 CFR part 84. The regulatory authority for the National Institute for Occupational Safety and Health (NIOSH) certification program for respiratory protective devices is found in the Mine Safety and Health Amendments Act of 1977 (30 U.S.C. 577a, 651 et seq., and 657(g)) and the Occupational Safety and Health Act of 1970 (30 U.S.C. 3, 5, 7, 811, 842(h), 844). These regulations have as their basis the performance tests and criteria for approval of respirators used by millions of American construction workers, miners, painters, asbestos removal workers, fabric mill workers, and fire fighters. In addition to benefiting industrial workers, the testing requirements also benefit health care workers implementing the current CDC Guidelines for Preventing the Transmission of Tuberculosis. Regulations of the Environmental Protection Agency (EPA) and the Nuclear Regulatory Commission (NRC) also require the use of NIOSH-approved respirators. Recent developments in this program have provided approvals for self-contained breathing apparatus (SCBA), Air-Purifying respirators, Powered Air-Purifying (PAPR) and Air-Purifying Escape respirators for use by fire fighters and other first responders to potential terrorist attacks. These regulations also establish methods for respirator manufacturers to submit respirators for testing under the regulation and have them certified as NIOSH-approved if they meet the criteria given in the above regulation. NIOSH, in accordance with 42 CFR 84: (1) Issues certificates of approval for respirators which have met specified construction, performance, and protection requirements; (2) establishes procedures and requirements to be met in filing applications for approval; (3) specifies minimum requirements and methods to be employed by NIOSH and by applicants in conducting inspections, examinations, and tests to determine effectiveness of respirators; (4) establishes a schedule of fees to be charged applicants for testing and certification, and (5) establishes approval labeling requirements. Information is collected from those who apply for certification in order to properly establish the scope and intent of request. Contact information, type of respirator, quality assurance plans and procedures that are used in producing the respirator, and draft labels, as specified in the regulation, are the types of data collected. Respirator manufacturers (approximately 43), are the respondents and upon completion of the forms, their requests for approval are evaluated. There is no cost to respondents other than their time to participate.

Estimated Annualized Burden Hours:

Section name | Data type | Number of respondents | Number of responses per respondent | Average burden response (in hours) | Total burden hours
84.11 | Applications | 43 | 8 | 86 | 29,584
84.33 | Labeling | 43 | 8 | 2 | 688
84.35 | Modifications | 43 | 8 | 66 | 22,704
84.41 | Reporting | 43 | 8 | 23 | 7,912
84.43 | Record Keeping | 43 | 8 | 46 | 15,824
84.257 | Labeling | 43 | 8 | 3 | 1,032
84.1103 | Labeling | 43 | 8 | 3 | 1,032
Total |  |  |  |  | 78,776

Maryam I. Daneshvar,
Acting Reports Clearance Officer, Centers for Disease Control and Prevention.

[FR Doc. E7-16591 Filed 8-21-07; 8:45 am]

BILLING CODE 4163-18-P